NATIONAL CREDIT UNION ADMINISTRATION

Agency Information Collection Activities; Renewal of a Currently Approved Collection; Comment Request; Suspicious Activity Report by Depository Institutions

AGENCY: National Credit Union Administration (NCUA).

ACTION: Notice and request for comments.

SUMMARY: FinCEN and the Banking Supervisory Agencies,¹ as part of their continuing effort to reduce paperwork and respondent burden, invite the general public and other Federal agencies to take this opportunity to comment on information collections, as required by the Paperwork Reduction Act of 1995, Public Law 104-13 (44 U.S.C. 3506(c)(2)(A)). FinCEN and the Banking Supervisory Agencies are soliciting comments concerning the currently approved Suspicious Activity Report by Depository Institutions, which is being renewed without change.

¹ The term “Banking Supervisory Agencies” is the collective term for the following organizations: The Board of Governors of the Federal Reserve System, Federal Deposit Insurance Corporation, National Credit Union Administration, Office of the Comptroller of the Currency, and Office of Thrift Supervision.

DATES: Written comments should be received on or before August 17, 2009.

ADDRESSES: Interested parties are invited to submit written comments to any or all of the agencies. All comments, which should refer to the Office of Management and Budget (OMB) control numbers, will be shared among the agencies. Direct all written comments as follows:

NCUA: Clearance Officer: Mr. Jeryl Fish, (703) 518-6440, National Credit Union Administration, 1775 Duke Street, Alexandria, VA 22314-3428, Fax No. (703) 837-2861, E-mail: OCIOMail@ncua.gov.

FOR FURTHER INFORMATION CONTACT: Requests for additional information or a copy of the collection may be obtained by contacting:

NCUA: Tracy Sumpter, Office of the Chief Information Officer, (703) 518-6444 or John K. Ianno, Office of General Counsel, (703) 518-6540.

SUPPLEMENTARY INFORMATION: Title: Suspicious Activity Report by Depository Institutions (SAR). The Office of the Comptroller of the Currency is renewing without change all information collections covered under the information collection titled: “(MA)—Minimum Security Devices and Procedures, Reports of Suspicious Activities, and Bank Secrecy Act Compliance—12 CFR 21.” The FDIC is renewing all information collections covered under the information collected pursuant to Part 353—Suspicious Activity Reports, 12 CFR Part 353. FinCEN is also renewing without change the information collections in 31 CFR 103.18.

OMB Control Numbers:

Financial Crimes Enforcement Network: 1506-0001.

Board of Governors of the Federal Reserve System: 7100-0212.

Federal Deposit Insurance Corporation: 3064-0077.

National Credit Union Administration: 3133-0094.

Office of the Comptroller of the Currency: 1557-0180.

Office of Thrift Supervision: 1550-0003.

Form Numbers:

Financial Crimes Enforcement Network: Form 111.

Board of Governors of the Federal Reserve System: FR 2230.

Federal Deposit Insurance Corporation: 6710/06.

National Credit Union Administration: 2362.

Office of the Comptroller of the Currency: 8010-1/8010-9.

Office of Thrift Supervision: 1601.

Abstract: In 1985, the Banking Supervisory Agencies issued procedures to be used by banks and certain other financial institutions operating in the United States to report known or suspected criminal activities to the appropriate law enforcement and Banking Supervisory Agencies. Beginning in 1994, the Banking Supervisory Agencies and the FinCEN redesigned the reporting process resulting in the Suspicious Activity Report, which became effective in April 1996. The report is authorized by the following regulations: 31 CFR 103.18 (FinCEN); 12 CFR 21.11 (OCC); 12 CFR 563.180 (OTS); 12 CFR 208.62(c), 211.5(k), 211.24(f), and 225.4(f) (Board); 12 CFR 353.3 (FDIC); 12 CFR 748.1 (NCUA). The regulations were issued under the authority contained in the following statutes: 31 U.S.C. 5318(g) (FinCEN); 12 U.S.C. 93a, 1818, 1881-84, 3401-22, 31 U.S.C. 5318 (OCC); 12 U.S.C. 1463 and 1464 (OTS); 12 U.S.C. 248(a)(1), 625, 1818, 1844(c), 3105(c)(2) and 3106(a) (Board); 12 U.S.C. 1818-1820 (FDIC); 12 U.S.C. 1766(a), 1789(a) (NCUA).

Current Action: The Banking Supervisory Agencies and the FinCEN propose to renew, without revision, the currently approved form.²

² The form being renewed was approved by OMB effective June 30, 2007. On May 1, 2007, FinCEN published a Federal Register notice (72 FR 23891) (http://www.fincen.gov/statutes_regs/frn/pdf/sar_fr_notice.pdf) announcing the delayed implementation of the revised Suspicious Activity Report (SAR) forms. The revised SAR forms that support joint filings were originally scheduled to become effective on June 30, 2007 and mandatory on December 31, 2007. The delay in implementation does not impact ongoing suspicious activity reporting. Filers should continue to use the July 2003 form until further notice (http://www.fincen.gov/forms/files/f9022-47_sar-di.pdf). FinCEN will establish new dates for using the revised SAR forms in a future notice. Depository institutions will be provided ample lead time to incorporate the approved version.

Type of Review: Renewal of a currently approved collection.

Affected Public: Business, for-profit institutions, and non-profit institutions.

Estimated Number of Respondents: National Credit Union Administration (NCUA): 7,834.

Estimated Total Annual Responses: NCUA: 56,500.

Estimated Total Annual Burden: Estimated 60 minutes per form: NCUA: 56,500 hours.

An agency may not conduct or sponsor, and a person is not required to respond to, a collection of information unless the collection of information displays a valid Office of Management and Budget control number. Records required to be retained under the Bank Secrecy Act and these regulations issued by the Banking Supervisory Agencies must be retained for five years. Generally, information collected pursuant to the Bank Secrecy Act is confidential, but may be shared as provided by law with regulatory and law enforcement authorities.

Request for Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology, and (e) estimates of capital or start-up costs and costs of operation, maintenance, and purchase of services to provide information.

By the National Credit Union Administration Board on July 13, 2009.
Mary Rupp,
Secretary of the Board.

[FR Doc. E9-16925 Filed 7-15-09; 8:45 am]

BILLING CODE 4810-02-P